DEPARTMENT OF HOUSING AND URBAN DEVELOPMENT

24 CFR Part 970

Demolition or Disposition of Public Housing Projects

CFR Correction

In Title 24 of the Code of Federal Regulations, Parts 700 to 1699, revised as of April 1, 2012, on page 490, in § 970.27, redesignate paragraph (c) introductory text as paragraph (b).

[FR Doc. 2013-07091 Filed 3-25-13; 8:45 am]

BILLING CODE 1505-01-D